NATIONAL SCIENCE FOUNDATION

Notice of the Networking and Information Technology Research and Development Program 30th Anniversary Symposium

AGENCY: Networking and Information Technology Research and Development (NITRD) Program National Coordination Office (NCO), National Science Foundation.

ACTION: Notice of NITRD 30th Anniversary Symposium.

SUMMARY: The NITRD Subcommittee will hold a symposium to mark the 30th anniversary of the signing of the High-Performance Computing (HPC) Act of 1991 and the launching of the High-Performance Computing and Communications Program, now known as the NITRD Program. The NITRD 30th-Anniversary Symposium will bring together leading experts from the government, academic, and private sectors to both mark NITRD's past accomplishments and look to the future. The full-day agenda includes speakers and panels in areas such as artificial intelligence and machine learning, networking and security, privacy and the Internet of Things, computing at scale, and how technology can benefit society. As a group, they will present the latest advances and discuss where research is headed. In-person attendance is by invite only, but the public is invited to view the livestream symposium. Registration is required for livestream participation.

DATES: May 25, 2022, 9:00 a.m.-5:00 p.m. (ET).

ADDRESSES: The in-person attendance to the Symposium is by invitation only; virtual attendance will be available through livestream.

Instructions: Registration is required for virtual attendance. The agenda and information about how to register and livestream the Symposium will be available the week of the event at: https://www.nitrd.gov/30th-anniversary-of-the-nitrd-program/. For more information about the NITRD Program, please visit our website: https://www.nitrd.gov/about/.

FOR FURTHER INFORMATION CONTACT: Diana Weber at nco@nitrd.gov or call 202-459-9684. Individuals who use a telecommunications device for the deaf (TDD) may call the Federal Information Relay Service (FIRS) at 1-800-877-8339 between 8 a.m. and 8 p.m., Eastern time, Monday through Friday.

SUPPLEMENTARY INFORMATION:

Background: Thirty years ago, Congress recognized the importance of advancing Federal investment in HPC and established a mechanism by which the Federal Government could maximize and coordinate its HPC research and development (R&D) investments. The HPC Act of 1991 has expanded in scope and evolved over the years into the NITRD Program, with 25 Federal member agencies and 60 participating agencies. In fiscal year 2021, Federal agencies are investing approximately $7 billion in NITRD-related R&D.

One of the key parts of the 1991 legislation was to establish a mechanism to lead the coordination and planning of multiagency and multisector HPC R&D to maximize the effectiveness of the Federal Government's R&D investments and the transition of discoveries to societal benefit. This legislation led to America's world leadership in networking and information technology (NIT), which has paid huge dividends, changed our world, and driven prosperity. This vital mission has expanded over the years to support the Federal Government's role in the thriving US information technology innovation ecosystem that uniquely integrates expertise and resources spanning the Federal Government, academia, and private industry. Currently, NITRD coordinates Federal agencies' R&D across critical computing- and IT-related topics in advanced networking technologies (including wireless), artificial intelligence, big data, cybersecurity, health IT, information integrity, networked physical systems, privacy protection, robotics, and software. Through NITRD, Federal agencies exchange information; collaborate on research activities such as testbeds, workshops, strategic planning, and cooperative solicitations; and focus their R&D resources on common goals of making new discoveries and/or developing new technology solutions to address our Nation's most critical priorities. The Federal role in NIT R&D continues to be crucial as Federal investments have led to many of the key technologies used today. As an example, NITRD-related HPC and IT R&D underpinned U.S. leadership in fighting COVID-19, not only to speed discovery of therapeutics and vaccines but also to support Americans in conducting their education, healthcare, and business remotely wherever possible. Our economy has been driven by successes such as these, ensuring a future that is even brighter than the past. However, there are still many exciting challenges and possibilities ahead, which with continued coordinated investment will allow America to continue to change the world. The increased national commitment to IT R&D has been reflected in the growth in combined investment requests by NITRD's Federal member agencies from less than $5 million in 1991 to nearly $7.8 billion requested for FY2022.

The Symposium is organized by the Computing Community Consortium in collaboration with the NITRD NCO and the National Science Foundation. Submitted by the National Science Foundation in support of the Networking and Information Technology Research and Development (NITRD) National Coordination Office (NCO) on April 4, 2022.

Suzanne H. Plimpton,
Reports Clearance Officer, National Science Foundation.

[FR Doc. 2022-07500 Filed 4-7-22; 8:45 am]

BILLING CODE 7555-01-P